DEPARTMENT OF TRANSPORTATION

Federal Aviation Administration

NextGen Advisory Committee

AGENCY: Federal Aviation Administration (FAA), DOT.

ACTION: Notice of NextGen Advisory Committee (NAC) establishment.

SUMMARY: The FAA is issuing this notice to advise the public of the establishment of the NAC for 2 years. The Federal Aviation Administration (FAA) is establishing the NAC under agency authority in accordance with the provisions of the Federal Advisory Committee Act (FACA). The NAC is necessary and in the public interest. The nature and purpose of the NAC is to seek resolution of issues and challenges involving concepts, requirements, operational capabilities, the associated use of technology, and related considerations to aeronautical operations that affect the future of the Air Traffic Management System and the integration of new technologies.

FOR FURTHER INFORMATION CONTACT: Pamela Gomez at Pamela.Gomez@faa.gov or (202) 251-6048, located at 1250 Maryland Ave SW, Washington, DC 20024.

SUPPLEMENTARY INFORMATION: The Federal advisory committee's meetings will be open to the public and announced in the Federal Register, except as authorized by Section 10(d) of the Federal Advisory Committee Act.

Issued in Washington, DC, on May 25 2018.
John Wesley Raper,
Manager, Partnership Branch, ANG-A17, NextGen, Management Services, Federal Aviation Administration.

[FR Doc. 2018-11696 Filed 5-25-18; 4:15 pm]

BILLING CODE 4910-13-P